DEPARTMENT OF COMMERCE

International Trade Administration

(A-351-840)

Notice of Amended Final Determination of Sales at Less Than Fair Value: Certain Orange Juice from Brazil

AGENCY: Import Administration, International Trade Administration, Department of Commerce.

EFFECTIVE DATE: February 21, 2006.

FOR FURTHER INFORMATION CONTACT: Elizabeth Eastwood or Jill Pollack, Import Administration, International Trade Administration, U.S. Department of Commerce, 14th Street and Constitution Avenue, NW, Washington, DC 20230; telephone: (202) 482-3874 or (202) 482-4593, respectively.

SUPPLEMENTARY INFORMATION:

Amendment to Final Determination

In accordance with sections 735(a) and 777(i)(1) of the Tariff Act of 1930, as amended, (the Act), on January 13, 2006, the Department published its notice of final determination of sales at less than fair value (LTFV) in the investigation of certain orange juice from Brazil. See Notice of Final Determination of Sales at Less Than Fair Value and Affirmative Final Determination of Critical Circumstances: Certain Orange Juice from Brazil, 71 FR 2183 (Jan. 13, 2006). On January 17, 2006, we received an allegation, timely filed pursuant to 19 CFR 351.224(c)(2), from the petitioners (i.e., Florida Citrus Mutual, A. Duda & Sons, Inc. (doing business as Citrus Belle), Citrus World, Inc., and Southern Garden Citrus Processing Corporation (doing business as Southern Gardens)) that the Department made ministerial errors with respect to its final determination dumping margin calculations.

After analyzing the petitioners' submission, we have determined, in accordance with 19 CFR 351.224(e), that we made the following ministerial errors in the final determination:

• we inadvertently treated Fischer S/A - Agroindustria (Fischer) and an affiliated orange juice producer as separate entities for purposes of the cost test and product concordance, even though we had determined that it was appropriate to collapse them pursuant to 19 CFR 351.401(f), which resulted in constructed value incorrectly being used as the basis for normal value in Fischer's final margin calculations;

• we erred in the placement of programming language related to the application of adverse facts available to certain of Fischer's U.S. sales in the dumping margin program; and

• we mischaracterized the calculation of per-unit net U.S. customs duty expenses for Sucocitrico Cutrale Ltda.'s (Cutrale's) U.S. sales of frozen concentrated orange juice for manufacture (FCOJM) in our final determination. Specifically, we incorrectly stated that we recalculated Cutrale's per-unit net U.S. duties by allocating them only over Cutrale's period of investigation U.S. sales of FCOJM, rather than Cutrale's U.S. sales of both FCOJM and Not-From-Concentrate orange juice. However, the calculation of these customs duties itself, as well as their application to only FCOJM, was correct.

Correcting these errors results in a revised margin for Fischer. In addition, we have revised the calculation of the “All Others” rate accordingly.

For a detailed discussion of all ministerial errors alleged by the petitioners as well as the Department's analysis, see the February 8, 2006, memorandum from the team to Irene Darzenta Tzafolias entitled, “Ministerial Error Allegations in the Final Determination of the Antidumping Duty Investigation on Certain Orange Juice from Brazil.”

Therefore, in accordance with 19 CFR 351.224(e), we are amending the final determination of sales at LTFV in the antidumping duty investigation of certain orange juice from Brazil. The revised weighted-average dumping margins are as follows:

Manufacturer/Exporter | Final Determination Weighted-Average Margin Percentage | Amended Weighted-Average Margin Percentage
Fischer S/A - Agroindustria | 9.73 | 12.46
Montecitrus Trading S.A. | 60.29 | 60.29
Sucocitrico Cutrale, S.A. | 19.19 | 19.19
All Others | 15.42 | 16.51

Continuation of Suspension of Liquidation

In accordance with section 735(c)(1)(B) of the Act, we are directing U.S. Customs and Border Protection (CBP) to continue to suspend liquidation of all entries of certain orange juice from Brazil. CBP shall require a cash deposit equal to the estimated amount by which the normal value exceeds the U.S. price as indicated in the chart above. These instructions suspending liquidation will remain in effect until further notice.

This amended determination is issued and published pursuant to section 735(e) of the Act.

Dated: February 9, 2006.
David M. Spooner,
Assistant Secretary for Import Administration.

[FR Doc. E6-2418 Filed 2-17-06; 8:45 am]

BILLING CODE 3510-DS-S